DEPARTMENT OF TRANSPORTATION

National Highway Traffic Safety Administration

Petition for Exemption From the Federal Motor Vehicle Theft Prevention Standard; Ford Motor Company

AGENCY: National Highway Traffic Safety Administration (NHTSA), Department of Transportation (DOT).

ACTION: Grant of petition for exemption.

SUMMARY: This document grants in full Ford Motor Company's (Ford) petition for exemption of the model year 2020 Lincoln Corsair vehicle line from the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with the 2020 model year (MY).

FOR FURTHER INFORMATION CONTACT: Ms. Carlita Ballard, Office of International Policy, Fuel Economy and Consumer Programs, NHTSA, West Building, W43-439, NRM-310, 1200 New Jersey Avenue SE, Washington, DC 20590. Ms. Ballard's phone number is 202-366-5222. Her fax number is 202-493-2990.

SUPPLEMENTARY INFORMATION: In a petition dated November 16, 2018, Ford requested an exemption from the parts-marking requirements of the Theft Prevention Standard for the Lincoln Corsair vehicle line beginning with MY 2020. The petition requested exemption from parts-marking pursuant to 49 CFR part 543, “Exemption from Vehicle Theft Prevention Standard”, based on the installation of an antitheft device as standard equipment for the entire vehicle line.

Under 49 CFR part 543.5(a), a manufacturer may petition NHTSA to grant an exemption for one vehicle line per model year. In its petition, Ford provided a detailed description and diagram of the identity, design, and location of the components of the antitheft device for its Lincoln Corsair vehicle line. Ford stated that the Lincoln Corsair will be installed with its Intelligent Access with Push Button Start (IAwPB) system as standard equipment on the entire vehicle line. Ford also stated that on its signature trim level models it will offer phone as key (Paak) feature via of the LincolnWay app that can be used when paired with a smart phone instead of using a key fob to lock/unlock or remotely start/shutdown the vehicle. The IAwPB system is a passive, electronic engine immobilizer device that uses encrypted transponder technology. Key components of the IAwPB device will include an Intelligent Access electronic Push-Button Start key fob, keyless ignition system, radio transceiver module, body control module (BCM), powertrain control module (PCM), anti-lock braking system module (ABS) and an embedded secure modem (for Paak feature). Ford further stated that its Lincoln Corsair vehicle line will also be offered with a perimeter alarm system as standard equipment which will activate a visible and audible alarm whenever unauthorized access is attempted.

Ford stated that the device's integration of the transponder into the normal operation of the ignition key assures activation of the system. Ford also stated that its system is automatically activated when the “StartStop” button is pressed, shutting off the engine. Ford stated that the device is deactivated when a start sequence is completed and engine start is successful. Ford further stated that the vehicle engine can only be started when the key is present in the vehicle and the “StartStop” button inside the vehicle is pressed. Ford stated that when the “StartStop” button is pressed, the transceiver module will read a key code and transmit an encrypted message to the control module to determine key validity and engine start by sending a separate encrypted message to the BCM and the PCM. The powertrain will function only if the key code matches the unique identification key code previously programmed into the BCM. Ford stated that the two modules must be matched together in order for the vehicle to start. If the codes do not match, the powertrain engine will be inoperable. Ford further stated that any attempt to operate the vehicle without transmission of the correct code to the electronic control (i.e., short circuiting the “StartStop” button) module will be ineffective.

Ford's submission is considered a complete petition as required by 49 CFR 543.7, in that it meets the general requirements contained in § 543.5 and the specific content requirements of § 543.6.

In addressing the specific content requirements of § 543.6, Ford provided information on the reliability and durability of its proposed device. To ensure reliability and durability of the device, Ford conducted tests based on its own specified standards. Ford provided a detailed list of the tests conducted and believes that the device is reliable and durable since the device complied with its own specified requirements for each test.

Ford stated that incorporation of several features in the device further support the reliability and durability of the device. Specifically, some of those features include: encrypted communication between the transponder, BCM control function and the PCM; virtually impossible key duplication; and shared security data between the body control module/remote function actuator and the powertrain control module. Additionally, Ford stated that its antitheft device has no moving parts (i.e., BCM, PCM, and electrical components) to perform system functions which eliminate the possibility for physical damage or deterioration from normal use; and mechanically overriding the device to start the vehicle is also impossible.

Ford stated that its MY 2019 Lincoln Corsair vehicle line will also be equipped with several other standard antitheft features common to Ford vehicles, (i.e., hood release located inside the vehicle, counterfeit resistant VIN labels, secondary VINs, and cabin accessibility only with the use of a valid key fob).

Ford stated that it believes that the standard installation of its IAwPB device would be an effective deterrent against vehicle theft and compared its proposed device with other antitheft devices which NHTSA has determined to be as effective in reducing and deterring motor vehicle theft as would compliance with the parts-marking requirements.

Ford stated that the antitheft device was installed on all MY 1996 Ford Mustang GT and Cobra models as well as other selected models. Ford also stated that on its 1997 models, the installation of its antitheft device was extended to the entire Ford Mustang vehicle line as standard equipment and that according to the National Insurance Crime Bureau (NICB) theft statistics, MY 1997 Mustangs installed with the antitheft device showed a 70% reduction in theft rate compared to its MY 1995 Mustangs without an antitheft device.

Ford further stated that the proposed antitheft device is very similar to the system that was offered on its MY 2017 Lincoln MKC vehicle line. The Lincoln MKC vehicle line was granted a parts-marking exemption on September 30, 2015 by NHTSA (See 80 FR 60243, October 5, 2015) beginning with its MY 2017 vehicles.

Ford also reported that beginning with MY 2010, its antitheft device was installed as standard equipment on all of its North American Ford, Lincoln and Mercury vehicles but was offered as optional equipment on its 2010 F-series Super Duty pickups, Econoline and Transit Connect vehicles. Ford further stated that beginning with MY 2010, the IAwPB device was installed as standard equipment on its Lincoln MKT vehicles. In MY 2011, the device was offered as standard equipment on its Lincoln MKX vehicle line, and as an option on the Lincoln MKS, Ford Taurus, Edge, Explorer and Focus vehicles. Beginning with MY 2013, the device was offered as standard equipment on the Lincoln MKZ and optionally on the Ford Fusion, C-Max and Escape vehicles.

Ford referenced the agency's published theft rate data for the Ford Escape vehicles and stated that the Lincoln Corsair will use the IAwPB device similar to the design and architecture of the Ford Escape. Ford also stated that the Lincoln Corsair is comparably similar to the Ford Escape in vehicle segment, size and equipment. The agency notes that current theft rate data for the Ford Escape vehicle line for MYs 2012 through 2014 are 0.8336, 0.8547 and 0.5051 respectively.

Based on the supporting evidence submitted by Ford on the device, the agency believes that the antitheft device for the Lincoln Corsair vehicle line is likely to be as effective in reducing and deterring motor vehicle theft as compliance with the parts-marking requirements of the Theft Prevention Standard (49 CFR part 541).

Pursuant to 49 U.S.C. 33106 and 49 CFR 543.7(b), the agency grants a petition for exemption from the parts-marking requirements of Part 541 either in whole or in part, if it determines that, based upon substantial evidence, the standard equipment antitheft device is likely to be as effective in reducing and deterring motor vehicle theft as compliance with the parts-marking requirements of Part 541. The agency finds that Ford has provided adequate reasons for its belief that the antitheft device for the Lincoln Corsair vehicle line is likely to be as effective in reducing and deterring motor vehicle theft as compliance with the parts-marking requirements of the Theft Prevention Standard (49 CFR part 541). This conclusion is based on the information Ford provided about its device.

The agency concludes that the device will provide the five types of performance listed in 543.6(a)(3): Promoting activation; attracting attention to the efforts of unauthorized persons to enter or operate a vehicle by means other than a key; preventing defeat or circumvention of the device by unauthorized persons; preventing operation of the vehicle by unauthorized entrants; and ensuring the reliability and durability of the device.

The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Ford decides not to use the exemption for this line, it must formally notify the agency. If such a decision is made, the line must be fully marked according to the requirements under 49 CFR parts 541.5 and 541.6 (marking of major component parts and replacement parts).

NHTSA notes that if Ford wishes in the future to modify the device on which this exemption is based, the company may have to submit a petition to modify the exemption. Part 543.7(d) states that a Part 543 exemption applies only to vehicles that belong to a line exempted under this part and equipped with the antitheft device on which the line's exemption is based. Further, Part 543.10(c)(2) provides for the submission of petitions “to modify an exemption to permit the use of an antitheft device similar to but differing from the one specified in that exemption.”

The agency wishes to minimize the administrative burden that Part 543.10(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

For the foregoing reasons, the agency hereby grants in full Ford's petition for exemption for the Lincoln Corsair vehicle line from the parts-marking requirements of 49 CFR part 541, beginning with its model year (MY) 2020 vehicles.

Issued in Washington, DC, under authority delegated in 49 CFR 1.95 and 501.8.
Raymond R. Posten,
Associate Administrator for Rulemaking.

[FR Doc. 2019-05447 Filed 3-21-19; 8:45 am]

BILLING CODE 4910-59-P